DEPARTMENT OF AGRICULTURE

Farm Service Agency

Commodity Credit Corporation; Request for Reinstatement of a Previously Approved Information Collection

AGENCY: Farm Service Agency and the Commodity Credit Corporation, USDA.

ACTION: Notice and request for comments.

SUMMARY: In accordance with requirements of the Paperwork Reduction Act of 1995, this Notice announces the intention of the Commodity Credit Corporation (CCC) and Farm Service Agency (FSA) to request reinstatement of a previously approved information collection in support of the regulations governing Peanut Warehouse Storage Loans and Handler Operations for the 1996-2002 crop of peanuts, as authorized by the Federal Agriculture Improvement and Reform Act of 1996 (1996 Act).

DATES: Comments on this notice must be received on or before May 3, 2002, to be assured consideration.

ADDITIONAL INFORMATION OR COMMENTS: Carolyn Hunter, Marketing Specialist, Tobacco and Peanuts Division, Farm Service Agency, United States Department of Agriculture, STOP 0514, 1400 Independence Avenue, S.W., Washington, DC 20250-0514, (202) 690-0013, facsimile (202) 720-9015; or Internet e-mail, Carolyn_Hunter@wdc.fsa.usda.gov.

SUPPLEMENTARY INFORMATION:

Title: Peanut Warehouse Storage Loans and Handler Operations.

OMB Control Number: 0560-0014.

Type of Request: Reinstatement of a previously approved information collection.

Abstract: Information relative to reports and recordkeeping regarding peanut handlers and peanut warehouse storage loans, as authorized by the Secretary of Agriculture, is used by the FSA and CCC to monitor and control compliance with the USDA's peanut program, as outlined in 7 CFR Parts 729 and 1446. If this information is not required and then monitored, then the 1996 Act could not be implemented as required by Congress.

Estimate of Burden: Public reporting burden for this collection of information is estimated to average 30 minutes per response.

Respondents: Individual producers and warehouse operators.

Estimated Number of Respondents: 154,800.

Estimated Number of Responses Per Respondents: 376

Estimated Total Annual Burden of Respondents: 54,119.

Comments are invited on: (a) Whether the collection of information is necessary for the proper performance of the functions of the agencies, including whether the information will have practical utility; (b) the accuracy of the agencies' estimate of burden, including the validity of the methodology and assumptions used; (c) ways to enhance the quality, utility and clarity of the information to be collected; and (d) ways to minimize the burden of the collection of information on those who are to respond, including the use of appropriate automated, electronic, mechanical, or other technological collection techniques or other forms of information technology.

Comments should be sent to the Desk Officer for Agriculture, Office of Information and Regulatory Affairs, Office of Management and Budget, Washington, DC 20503, and to Carolyn Hunter, at the address listed in the “Additional Information or Comments” section, above.

Comments will be summarized and included in the request for OMB approval of information collection. All comments will become a matter of public record.

Signed at Washington, DC, on January 28, 2002.
James R. Little,
Administrator, Farm Service Agency, and Executive Vice President, Commodity Credit Corporation.

[FR Doc. 02-5008 Filed 3-1-02; 8:45 am]

BILLING CODE 3410-05-P